SMALL BUSINESS ADMINISTRATION

National Women's Business Council

AGENCY: U.S. Small Business Administration.

ACTION: Notice of open Federal advisory committee meeting.

SUMMARY: The SBA is issuing this notice to announce the location, date, time, and agenda for the next meeting of the National Women's Business Council (NWBC). The meeting will be open to the public.

DATES: The meeting will be held on October 19, 2012 from approximately 9 a.m. to 12 p.m. EST.

ADDRESSES: The meeting will be held at the Indianapolis Motor Speedway, 4790 West 16th Street, Indianapolis, IN 46222.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator.

The purpose of the meeting is to provide updates on the NWBC's 2012 research agenda and action items for fiscal year 2013 included but not limited to procurement, access to capital, access to markets, veteran, young and high-growth women entrepreneurs. The topics to be discussed will include 2012 projects and 2013 goals and research.

FOR FURTHER INFORMATION CONTACT: The meeting is open to the public, however, advance notice of attendance is requested. Anyone wishing to attend or make a presentation to the NWBC must either email their interest to info@nwbc.gov or call the main office number at 202-205-3850.

Those needing special accommodation in order to attend or participate in the meeting, please contact 202-205-3850 no later than October 12, 2012.

For more information, please visit our Web site at www.nwbc.gov.

Dan S. Jones,
Small Business Administration Committee Management Officer.

[FR Doc. 2012-24725 Filed 10-5-12; 8:45 am]

BILLING CODE P